DEPARTMENT OF ENERGY

Federal Energy Regulatory Commission

Combined Notice of Filings #1

Take notice that the Commission received the following electric corporate filings:

Docket Numbers: EC16-18-000.

Applicants: Cedar Bluff Wind, LLC, Golden Hills Wind, LLC, Golden Hills Interconnection, LLC.

Description: Application for Approval under Section 203 of the Federal Power Act and Request for Expedited Action of Cedar Bluff Wind, LLC, et al.

Filed Date: 10/23/15.

Accession Number: 20151023-5400.

Comments Due: 5 p.m. ET 11/13/15.

Take notice that the Commission received the following electric rate filings:

Docket Numbers: ER15-2647-000.

Applicants: Tres Amigas, LLC.

Description: Supplement to September 11, 2015 Tres Amigas, LLC submits tariff filing.

Filed Date: 10/23/15.

Accession Number: 20151023-5396.

Comments Due: 5 p.m. ET 10/30/15

Docket Numbers: ER15-2676-000.

Applicants: Cedar Bluff Wind, LLC.

Description: Revision to September 18, 2015 Cedar Bluff Wind, LLC tariff filing.

Filed Date: 10/20/15.

Accession Number: 20151020-5264.

Comments Due: 5 p.m. ET 11/10/15.

Take notice that the Commission received the following qualifying facility filings:

Docket Numbers: QF16-132-000.

Applicants: Hollingsworth & Vose Company.

Description: Form 556 of Hollingsworth & Vose Company.

Filed Date: 10/23/15.

Accession Number: 20151023-5135.

Comments Due: None Applicable.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 26, 2015.
Nathaniel J. Davis, Sr.,
Deputy Secretary.

[FR Doc. 2015-27672 Filed 10-29-15; 8:45 am]

BILLING CODE 6717-01-P